DEPARTMENT OF EDUCATION

Applications for New Awards; Upward Bound Math and Science Program

AGENCY: Office of Postsecondary Education, Department of Education.

ACTION: Notice.

SUMMARY: The Department of Education (Department) is issuing a notice inviting applications for new awards for fiscal year (FY) 2022 for the Upward Bound Math and Science (UBMS) Program, Assistance Listing Number 84.047M. This notice relates to the approved information collection under OMB control number 1840-0824.

DATES:

Applications Available: April 19, 2022.

Deadline for Transmittal of Applications: June 3, 2022.

Deadline for Intergovernmental Review: August 2, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT:

Tanisha Hamblin-Johnson, U.S. Department of Education, 400 Maryland Avenue SW, Room 2C104, Washington, DC 20202-4260. Telephone: (202) 453-6090. Email: Tanisha.Johnson@ed.gov. or,

Tara Lawrence, U.S. Department of Education, 400 Maryland Avenue SW, Room 2C104, Washington, DC 20202-4260. Telephone: (202) 260-1475. Email: Tara.Lawrence@ed.gov.

If you are deaf, hard of hearing, or have a speech disability and wish to access telecommunications relay services, please dial 7-1-1.

SUPPLEMENTARY INFORMATION:

Full Text of Announcement

I. Funding Opportunity Description

Purpose of Program: The Upward Bound (UB) Program is one of seven programs collectively known as the Federal TRIO Programs. The UB Program is a discretionary grant program that supports projects that provide students with the skills and motivation necessary to complete a program of secondary education and enter into and succeed in a program of postsecondary education. There are three types of grants under the UB Program: UB; Veterans UB; and UB Math and Science grants. In this notice, we invite applications for UBMS grants only. The invitation to apply for UB grants published in the Federal Register on December 16, 2021, and available at https://www.federalregister.gov/documents/2021/12/16/2021-27235/applications-for-new-awards-upward-bound-program. We will invite applications for Veterans UB grants in a forthcoming notice.

The UBMS Program supports projects designed to prepare high school students for postsecondary education programs that lead to careers in the fields of math and science.

UBMS grantees are required to provide the services listed in sections 402C(b) and (c) of the Higher Education Act of 1965, as amended (HEA) (20 U.S.C. 1070a-13(b), (c)). Permissible services under the UBMS Program are specified in section 402C(d) of the HEA (20 U.S.C. 1070a-13(d)).

Priorities: This notice contains three competitive preference priorities. Competitive Preference Priority 1 is from the Secretary's Notice of Administrative Priorities for Discretionary Grant Programs, published in the Federal Register on March 9, 2020 (85 FR 13640) (Administrative Priorities). Competitive Preference Priorities 2 and 3 are from the Secretary's Supplemental Priorities and Definitions for Discretionary Grant Programs, published in the Federal Register on December 10, 2021 (86 FR 70612) (Supplemental Priorities).

Note: Applicants must include in the one-page abstract submitted with the application a statement indicating which, if any, competitive preference priorities are addressed. If the applicant has addressed one or more of the competitive preference priorities, this information must also be listed on the UBMS Program Profile Form.

Competitive Preference Priorities: For FY 2022 and any subsequent year in which we make awards from the list of unfunded applicants from this competition, these priorities are competitive preference priorities. Under 34 CFR 75.105(c)(2)(i), we award up to an additional nine points to an applicant, depending on how well the application meets the priorities.

The priorities are:

Competitive Preference Priority 1: Applications that Demonstrate a Rationale (Up to 3 points).

Under this priority, an applicant proposes a project that demonstrates a rationale (as defined in this notice).

Note: A list of evidence-based practices that are relevant to the UBMS Program is available at https://www2.ed.gov/programs/triomathsci/applicant.html. This list is not exhaustive. Additional information regarding the What Works Clearinghouse practice guides and intervention reports that could also be relevant is posted on the Department's website at www.ies.ed.gov/ncee/wwc.

Competitive Preference Priority 2: Meeting Student Social, Emotional, and Academic Needs (Up to 3 points).

Projects that are designed to improve students' social, emotional, academic, and career development, with a focus on underserved students, through providing multi-tiered systems of supports that address learning barriers both in and out of the classroom, that enable healthy development and respond to students' needs, and which may include evidence-based trauma-informed practices and professional development for educators on avoiding deficit-based approaches.

Note: Because the UBMS Program supports students and not the professional development of educators, applicants should address supports for students only.

Competitive Preference Priority 3: Strengthening Cross-Agency Coordination and Community Engagement to Advance Systemic Change (Up to 3 points).

Projects that are designed to take a systemic evidence-based approach to improving outcomes for underserved students by establishing cross-agency partnerships, or community-based partnerships with local nonprofit organizations, businesses, philanthropic organizations, or others, to meet family well-being needs.

Definitions: The definitions below are from 34 CFR 77.1 and the Supplemental Priorities.

Demonstrates a rationale means a key project component included in the project's logic model is informed by research or evaluation findings that suggest the project component is likely to improve relevant outcomes.

Disconnected youth means an individual, between the ages of 14 and 24, who may be from a low-income background, experiences homelessness, is in foster care, is involved in the justice system, or is not working or not enrolled in (or at risk of dropping out of) an educational institution.

Evidence-based means the proposed project component is supported by evidence that demonstrates a rationale.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp.

Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student in one or more of the following subgroups:

(a) A student who is living in poverty or is served by schools with high concentrations of students living in poverty.

(b) A student experiencing homelessness or housing insecurity.

(c) A student who is in foster care.

(d) A student who is the first in their family to attend postsecondary education.

(e) A student who is enrolled in or is seeking to enroll in postsecondary education who is eligible for a Pell Grant.

(f) A student performing significantly below grade level.

Application Requirements: The following application requirements for FY 2022 are from section 402C(e) of the HEA (20 U.S.C. 1070a-13(e)) and the program regulations at 34 CFR 645.21.

An applicant must submit the following assurances, as part of its application—

(1) Not less than two-thirds of the youths participating in the project proposed to be carried out under any application be low-income individuals who are first generation college students;

(2) The remaining youths participating in the project proposed to be carried out under any application be low-income individuals or potential first-generation college students;

(3) No student will be denied participation in a project assisted under section 402C of the HEA because the student will enter the project after the 9th grade.

(4) The project will collaborate with other Federal TRIO projects, GEAR UP projects, or programs serving similar populations that are serving the same target schools or target area in order to minimize the duplication of services and promote collaborations so that more students can be served.

Program Authority: 20 U.S.C. 1070a-11 and 1070a-13.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 645. (e) The Administrative Priorities. (f) The Supplemental Priorities.

Note: The regulations in 34 CFR 86 apply to institutions of higher education only.

II. Award Information

Type of Award: Discretionary grants.

Estimated Available Funds: The Administration received $1,137,000,000 for the Federal TRIO Program for FY 2022, of which we intend to use an estimated $65,928,188 for UBMS awards.

Contingent upon the availability of funds and the quality of applications, we may make additional awards in subsequent years from the list of unfunded applications from this competition.

Estimated Range of Awards: $287,537-$442,525.

Estimated Average Size of Awards: $310,982.

Maximum Award: The maximum award varies based on whether the applicant is currently receiving a UBMS Program grant, as well as the number of participants served.

• For an applicant that is not currently receiving a UBMS Program grant, the maximum award amount is $287,537, based upon a per-participant cost of no more than $4,792 and a minimum of 60 participants.

• For an applicant that is currently receiving a UBMS Program grant, the maximum award amount is equal to the applicant's base award amount for FY 2021, and the minimum number of participants is the number of participants in the project's FY 2021 grant award notification.

Estimated Number of Awards: 212.

Note: The Department is not bound by any estimates in this notice.

Project Period: Up to 60 months.

III. Eligibility Information

1. Eligible Applicants: Institutions of higher education, public and private agencies, and organizations including community-based organizations with experience in serving disadvantaged youth, secondary schools, combinations of such institutions, agencies, and organizations.

2. Cost Sharing or Matching: This competition does not require cost sharing or matching.

3. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

4. Administrative Cost Limitation: This program does not include any program-specific limitation on administrative expenses. All administrative expenses must be reasonable and necessary and conform to Cost Principles described in 2 CFR part 200 subpart E of the Uniform Guidance.

5. Subgrantees: A grantee under this competition may not award subgrants to entities to directly carry out project activities described in its application.

6. Other: An applicant may submit more than one application for a UBMS Program grant so long as each application describes a project that serves a different target area or target school (34 CFR 645.20(a)). The Secretary is not designating any additional populations for which an applicant may submit a separate application under this competition (34 CFR 645.20(b)). The term “target area” is defined as a discrete local or regional geographic area served by a project (34 CFR 645.6(b)). The term “target school” is defined as a school designated by the applicant as a focus of project services (34 CFR 645.6(b)).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This program is subject to Executive Order 12372 and the regulations in 34 CFR part 79. Information about Intergovernmental Review of Federal Programs under Executive Order 12372 is in the application package for this program.

3. Funding Restrictions: We specify unallowable costs in 34 CFR 645.41. We reference additional regulations outlining funding restrictions in the Applicable Regulations section of this notice.

4. Recommended Page Limit: The application narrative is where you, the applicant, address the selection criteria that reviewers use to evaluate your application. We recommend that you (1) limit the application narrative, which includes the budget narrative, to no more than 65 pages and (2) use the following standards:

• A “page” is 8.5″ x 11″, on one side only, with 1″ margins at the top, bottom, and both sides.

• Double space (no more than three lines per vertical inch) all text in the application narrative, excluding titles, headings, footnotes, quotations, references, and captions as well as all text in charts, tables, figures, and graphs, which may be single-spaced.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative. We recommend that any application addressing the competitive preference priorities include no more than three additional pages for each priority, for a total of up to nine additional pages for the competitive preference priorities if the three competitive preference priorities are addressed.

V. Application Review Information

1. Selection Criteria: The selection criteria for this competition are from 34 CFR 645.31.

We will award up to 100 points to an application under the selection criteria and up to 9 additional points to an application under the competitive preference priorities, for a total score of up to 109 points. The maximum number of points available for each criterion is indicated in parentheses.

(a) Need for the project. (Up to 24 points). The Secretary evaluates the need for a UBMS Program in the proposed target area on the basis of—

(i) The extent to which student performance on standardized achievement and assessment tests in mathematics and science in the target area is lower than State or national norms; (Up to 6 points)

(ii) The extent to which potential participants attend schools in the target area that lack the resources and coursework that would help prepare persons for entry into postsecondary programs in mathematics, science, or engineering; (Up to 6 points)

(iii) The extent to which such indicators as attendance data, dropout rates, college-going rates and student/counselor ratios in the target area indicate the importance of having additional educational opportunities available to low-income, first-generation students; and (Up to 6 points)

(iv) The extent to which there are eligible students in the target area who have demonstrated interest and capacity to pursue academic programs and careers in mathematics and science, and who could benefit from an Upward Bound Math and Science program. (Up to 6 points)

(b) Objectives. (Up to 9 points). The Secretary evaluates the quality of the applicant's objectives and proposed targets (percentages) in the following areas on the basis of the extent to which they are both ambitious, as related to the need data provided under selection criterion (a), and attainable, given the project's plan of operation, budget, and other resources—

(i) Academic performance (GPA); (1 point)

(ii) Academic performance (standardized test scores); (1 point)

(iii) Secondary school retention and graduation (with regular secondary school diploma); (2 points)

(iv) Completion of rigorous secondary school program of study; (1 point)

(v) Postsecondary enrollment; (3 points) and

(vi) Postsecondary completion. (1 point)

(c) Plan of operation. (Up to 30 points). The Secretary determines the quality of the applicant's plan of operation by assessing the quality of—

(1) The plan to inform the faculty and staff at the applicant institution or agency and the interested individuals and organizations throughout the target area of the goals and objectives of the project; (Up to 3 points)

(2) The plan for identifying, recruiting, and selecting participants to be served by the project; (Up to 3 points)

(3) The plan for assessing individual participant needs and monitoring the academic progress of participants while they are in UBMS; (Up to 3 points)

(4) The plan for locating the project within the applicant's organizational structure; (Up to 3 points)

(5) The curriculum, services and activities that are planned for participants in both the academic year and summer components; (Up to 3 points)

(6) The planned timelines for accomplishing critical elements of the project; (Up to 3 points)

(7) The plan to ensure effective and efficient administration of the project, including, but not limited to, financial management, student records management, and personnel management; (Up to 3 points)

(8) The applicant's plan to use its resources and personnel to achieve project objectives and to coordinate the UBMS project with other projects for disadvantaged students; (Up to 3 points)

(9) The plan to work cooperatively with parents and key administrative, teaching, and counseling personnel at the target schools to achieve project objectives; (Up to 3 points) and

(10) A follow-up plan for tracking graduates of UBMS as they enter and continue in postsecondary education. (Up to 3 points)

(d) Applicant and community support. (Up to 16 points). The Secretary evaluates the applicant and community support for the proposed project on the basis of the extent to which—

(1) The applicant is committed to supplementing the project with resources that enhance the project such as: Space, furniture and equipment, supplies, and the time and effort of personnel other than those employed in the project. (Up to 8 points)

(2) Resources secured through written commitments from community partners. (Up to 8 points)

(i) An applicant that is an institution of higher education must include in its application commitments from the target schools and community organizations;

(ii) An applicant that is a secondary school must include in its application commitments from institutions of higher education, community organizations, and, as appropriate, other secondary schools and the school district; and

(iii) An applicant that is a community organization must include in its application commitments from the target schools and institutions of higher education.

(e) Quality of personnel. (Up to 8 points). To determine the quality of personnel the applicant plans to use, the Secretary looks for information that shows—

(1) The qualifications required of the project director, including formal training or work experience in fields related to the objectives of the project and experience in designing, managing, or implementing similar projects; (Up to 3 points)

(2) The qualifications required of each of the other personnel to be used in the project, including formal training or work experience in fields related to the objectives of the project; (Up to 3 points)

(3) The quality of the applicant's plan for employing personnel who have succeeded in overcoming barriers similar to those confronting the project's target population. (Up to 2 points)

(f) Budget and cost effectiveness. (Up to 5 points) The Secretary reviews each application to determine the extent to which—

(1) The budget for the project is adequate to support planned project services and activities; (Up to 3 points) and

(2) Costs are reasonable in relation to the objectives and scope of the project. (Up to 2 points)

(g) Evaluation plan. (Up to 8 points). The Secretary evaluates the quality of the evaluation plan for the project on the basis of the extent to which the applicant's methods of evaluation—

(1) Are appropriate to the project and include both quantitative and qualitative evaluation measures; (Up to 4 points) and

(2) Examine in specific and measurable ways the success of the project in making progress toward achieving its process and outcomes objectives. (Up to 4 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

For this competition, a panel of non-Federal reviewers will review each application in accordance with the selection criteria in 34 CFR 645.31. The individual scores of the reviewers will be added and the sum divided by the number of reviewers to determine the peer review score received in the review process. Additionally, in accordance with 34 CFR 645.32, the Secretary will award prior experience points to applicants that conducted a UBMS Program project during budget periods 2017-18, 2018-19, 2019-20, and 2020-21, based on their documented experience. Prior experience points, if any, will be added to the application's averaged reader score to determine the total score for each application.

If there are insufficient funds for all applications with the same total scores, the Secretary will choose among the tied applications so as to serve geographic areas in which there is significant child poverty and that have been underserved by the UBMS Program, in accordance with the following procedures. The Secretary will identify and recommend an award for—

• First, applicants in the funding band that applied to serve target schools within a Congressional District (a) that has a child poverty level greater than 30 percent and (b) where UBMS projects previously served either 10 or fewer target schools or fewer than 150 students within that Congressional District. If this first tie-breaker provision exhausts available funds, then no further action is taken.

• Second, applicants in the funding band that applied to serve target schools within a Congressional District (a) that has a child poverty level greater than 25 percent and (b) where UBMS projects previously served either 15 or fewer target schools or fewer than 200 students within that Congressional District. If this second tie-breaker provision exhausts available funds, then no further action is taken.

• Third, applicants in the funding band that applied to serve target schools within a Congressional District where UBMS projects previously served zero target schools.

Note: Within each of the steps of the tie-breaker process, if there is more than one application with the same score and insufficient funding to support these applications, the applicant proposing to serve target schools within the more impoverished Congressional District will be the final application identified and recommended to receive an award.

In applying the tie-breaker criteria, the Department will use the most current data available. With respect to Congressional Districts and child poverty data within Congressional Districts, the most recent available Child Poverty data from the United States Census for Congressional Districts is for the 117th Congress, and therefore, the geographical boundaries used for the tie-breaker are drawn from the 115th Congress. The number of target schools served within the boundaries of a Congressional District, and the number of students served within these target schools, will be derived from the UBMS Annual Performance Report (APR). The Department will use data from the 2020-21 APR to count the number of target schools that receive services within Congressional District boundaries.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The success of the UBMS Program will be measured by the percentage of UBMS participants who enroll in and complete postsecondary education. The following performance measures have been developed to track progress toward achieving program success for purposes of Department reporting under 34 CFR 75.110:

a. The percentage of UBMS students who took two years of mathematics beyond Algebra I by the 12th grade;

b. The percentage of UBMS students who graduated from secondary school with a regular secondary school diploma;

c. The percentage of UBMS students who enrolled in postsecondary education;

d. The percentage of UBMS students who enrolled in a program of postsecondary education by the fall term following graduation from high school and who in the first year of postsecondary education placed into college-level math and English without need for remediation;

e. The percentage of former UBMS students who enrolled in a program of postsecondary education and graduated on time—within four years for the bachelor's degree and within two years for the associate's degree;

f. The percentage of former UBMS participants who enrolled in a program of postsecondary education and attained either an associate's degree within three years or a bachelor's degree within six years of enrollment; and

g. The percentage of UBMS students expected to graduate high school in the reporting year who complete a Free Application for Federal Student Aid (FAFSA).

All UBMS Program grantees will be required to submit APRs.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Michelle Asha Cooper,
Deputy Assistant Secretary for Higher Education Programs, Delegated the Authority to Perform the Functions and Duties of the Assistant Secretary, Office of Postsecondary Education.

[FR Doc. 2022-08295 Filed 4-18-22; 8:45 am]

BILLING CODE 4000-01-P